DEPARTMENT OF THE INTERIOR

Office of Surface Mining Reclamation and Enforcement

Notice of Proposed Information Collection

AGENCY: Office of Surface Mining Reclamation and Enforcement, Interior.

ACTION: Notice and request for comments.

SUMMARY: In compliance with the Paperwork Reduction Act of 1995, the Office of Surface Mining Reclamation and Enforcement (OSM) is announcing its intention to request renewed approval for the collections of information for 30 CFR 870.18, Abandoned mine reclamation fund—fee collection and coal production reporting; and 30 CFR part 735—Grants for Program Development and Administration and Enforcement, and 30 CFR part 886—State and Tribal Reclamation Grants. These collection requests have been forwarded to the Office of Management and Budget (OMB) for review and comment. The information collection requests describe the nature of the information collections and the expected burden and cost.

DATES: OMB has up to 60 days to approve or disapprove the information collections but may respond after 30 days. Therefore, public comments should be submitted to OMB by December 9, 2002 in order to be assured of consideration.

FOR FURTHER INFORMATION CONTACT: To request a copy of either information collection request, explanatory information and related forms, contact John A. Trelease at (202) 208-2783, or electronically to jtreleas@osmre.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities [see 5 CFR 1320.8(d)]. OSM has submitted two requests to OMB to renew its approval of the collections of information contained in: 30 CFR 870.18, Abandoned mine reclamation fund—fee collection and coal production reporting; 30 CFR part 735—Grants for Program Development and Administration and Enforcement, and 30 CFR part 886—State and Tribal Reclamation Grants. OSM is requesting a 3-year term of approval for each information collection activity.

An agency may not conduct or sponsor, and a person is not required to respond to, a collection of information unless it displays a currently valid OMB control number. The OMB control number for part 870.18 is 1029-0090 and 30 CFR part 735 and 886 that require grant submittals are currently approved under OMB control number 1029-0059.

As required under 5 CFR 1320.8(d), a Federal Register notice soliciting comments on these collections of information was published on July 22, 2002 (67 FR 47828). No comments were received. This notice provides the public with an additional 30 days in which to comment on the following information collection activities:

Title: 30 CFR part 735—Grants for Program Development and Administration and Enforcement, and 30 CFR part 886—State and Tribal Reclamation Grants

OMB Control Number: 1029-0059.

Summary: State and Tribal reclamation and regulatory authorities are requested to provide specific budget and program information as part of the grant application and reporting processes authorized by the Surface Mining Control and Reclamation Act.

Bureau Form Numbers: OSM-47, OSM-49 and OSM-51.

Frequency of Collection: Semi-annually, annually and once.

Description of Respondents: State and Tribal regulatory and reclamation authorities.

Total Annual Responses: 132.

Total Annual Burden Hours: 655 hours.

Title: 30 CFR Part 870.18—Abandoned mine reclamation fund—fee collection and coal production reporting.

OMB Control Number: 1029-0090.

Summary: Section 402 of SMCRA requires fees to be paid to the Abandoned Mine Reclamation Fund by coal operators on the basis of coal tonnage produced. This information collection request is needed to support verification of the moisture deduction allowance. The information will be used by OSM during audits to verify that the amount of excess moisture taken by the operator is appropriate.

Frequency of Collection: Quarterly.

Description of Respondents: Coal mine operators.

Total Annual Responses: 933.

Total Annual Burden Hours: 700.

Send comments on the need for the collections of information for the performance of the functions of the agency; the accuracy of the agency's burden estimates; ways to enhance the quality, utility and clarity of the information collections; and ways to minimize the information collection burdens on respondents, such as use of automated means of collections of the information, to the following addresses. Please refer to OMB control number 1029-0059 for parts 735 and 886 and the three grant forms, and 1029-0090 for Part 870.18 in your correspondence.

ADDRESSES: Office of Information and Regulatory Affairs, Office of Management and Budget, Attention: Department of Interior Desk Officer, 725 17th Street, NW., Washington, DC 20503. Also, please send a copy of your comments to John A. Trelease, Office of Surface Mining Reclamation and Enforcement, 1951 Constitution Ave, NW, Room 210—SIB, Washington, DC 20240, or electronically to jtreleas@smre.gov.

Dated: October 15, 2002.
Richard G. Bryson,
Chief, Division of Regulatory Support.

[FR Doc. 02-28477 Filed 11-7-02; 8:45 am]

BILLING CODE 4310-05-M